DEPARTMENT OF COMMERCE

International Trade Administration

A-570-851

Certain Preserved Mushrooms from the People's Republic of China: Notice of Rescission of Antidumping Duty Administrative Review

AGENCY: Import Administration, International Trade Administration, Department of Commerce.

SUMMARY: On March 28, 2007, the Department of Commerce (“Department”) initiated the administrative review of the antidumping duty order on certain preserved mushrooms from the People's Republic of China (“PRC”) covering the period of review from February 1, 2006, through January 31, 2007 (“POR”). See Initiation of Antidumping and Countervailing Duty Administrative Reviews, 72 FR 14516 (March 28, 2007) (“Initiation Notice”). On April 17, 2007, the review request was withdrawn with respect to all parties who requested the review. Therefore, the Department is rescinding the administrative review of sales of certain preserved mushrooms from the PRC covering the POR.

EFFECTIVE DATE: May 4, 2007.

FOR FURTHER INFORMATION CONTACT: Karine Gziryan, AD/CVD Operations, Office 4, Import Administration, International Trade Administration, U.S. Department of Commerce, 14th Street and Constitution Avenue, NW, Washington, DC 20230; telephone: (202) 482-4081.

SUPPLEMENTARY INFORMATION:

Background

On February 2, 2007, the Department published a notice of opportunity to request an administrative review of the antidumping duty order on certain preserved mushrooms from the PRC for the POR. See Antidumping or Countervailing Duty Order, Finding, or Suspended Investigation; Opportunity to Request Administrative Review, 72 FR 5007 (February 2, 2007). On February 28, 2007, China Processed Food Import and Export Company, COFCO (Zhangzhou) Food Industrial Co. Ltd., China National Cereals, Oils and Foodstuffs Import and Export Corporation, Fujian Yu Xing Fruit and Vegetable Foodstuff Development Co., and Xiamen Jiahua Import and Export Trading Co., Ltd. requested administrative reviews of their sales of certain preserved mushrooms to the United States during the POR. Pursuant to this request, the Department initiated an administrative review of the antidumping duty order on ceratin preserved mushrooms from the PRC. See Initiation Notice. On April 17, 2007, all five companies which requested the review timely withdrew their requests for administrative reviews.

Rescission of Review

Pursuant to 19 CFR 351.213(d)(1), the Department will rescind an administrative review, in whole or in part, if a party that requested a review withdraws the request within 90 days of the date of publication of the notice of initiation. In this case, the companies listed above withdrew their requests for administrative reviews of their exports of certain preserved mushrooms for the POR, within 90 days from the date of initiation. No other interested party requested a review of these companies. Therefore, the Department is rescinding this review of the antidumping duty order on certain preserved mushrooms from the PRC covering the POR, in accordance with 19 CFR 351.213(d)(1).

Assessment

The Department will instruct U.S. Customs and Border Protection (“CBP”) to assess antidumping duties on all appropriate entries for China Processed Food Import and Export Company, COFCO (Zhangzhou) Food Industrial Co. Ltd., China National Cereals, Oils and Foodstuffs Import and Export Corporation, Fujian Yu Xing Fruit and Vegetable Foodstuff Development Co., and Xiamen Jiahua Import and Export Trading Co., Ltd. Antidumping duties shall be assessed at rates equal to the cash deposit of estimated antidumping duties required at the time of entry, or withdrawal from warehouse, for consumption, in accordance with 19 CFR 351.212(c)(1)(i). The Department intends to issue appropriate assessment instructions directly to CBP 15 days after of publication of this notice in the Federal Register.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is in accordance with section 777(i)(1) of the Tariff Act of 1930, as amended, and 19 CFR 351.213(d)(4) of the Department's regulations.

Dated: April 26, 2007.
Stephen J. Claeys,
Deputy Assistant Secretary for Import Administration.

[FR Doc. E7-8585 Filed 5-3-07; 8:45 am]

BILLING CODE 3510-DS-S